DEPARTMENT OF JUSTICE

[AAG/A Order No. 273-2002]

Privacy Act of 1974; System of Records

Pursuant to the Privacy Act of 1974 (5 U.S.C. 552a), notice is given that the Federal Bureau of Prisons (Bureau) proposes to modify its system of records entitled “Inmate Safety and Accident Compensation Record System, JUSTICE/BOP-008.” This system, which was last published on September 28, 1978 (43 FR 44736), is now being modified and will become effective 60 days from the date of publication.

The Bureau is updating the system's locations and modifying the system to include all individuals placed directly under the custody of the Bureau pursuant to 18 U.S.C. 3621 and 5003 (state inmates). Several sections have been modified to reflect new technical improvements such as digital recordings and Compact Discs (CDs) and new agency practices regarding the storage and safeguarding of automated information. The entire Routine Use section has been reorganized and expanded to add new routine uses. Several previously-published routine uses have been incorporated into the Purpose Section of the Notice. The system manager has been re-designated. The exemptions from certain provisions of the Privacy Act remain the same as previously promulgated and codified in 28 CFR 16.97(a) and (b).

Title 5 U.S.C. 552a (e)(4) and (11) provide that the public be provided a 30-day period in which to comment. The Office of Management and Budget (OMB), which has oversight responsibilities under the Privacy Act, requires that it be given a 40-day period in which to review the system. Therefore, please submit any comments by July 18, 2002.

The public, OMB, and the Congress are invited to send written comments to Mary Cahill, Management and Planning Staff, Justice Management Division, Department of Justice, Washington, DC 20530 (1400 National Place Building).

In accordance with 5 U.S.C. 552a(r), the Department has provided a report to OMB and the Congress on the proposed modification. A description of the modified system is provided below.

Dated: June 5, 2002.
Robert F. Diegelman,
Acting Assistant Attorney General for Administration.

JUSTICE/BOP-008

System Name:

Inmate Safety and Accident Compensation Record System.

System Location:

Records may be retained at the Central Office, Regional Offices, or at any of the Federal Bureau of Prisons (Bureau) facilities, or at any location operated by a contractor authorized to provide computer and/or correctional service to Bureau inmates. A list of Bureau facilities may be found at 28 CFR part 503 and on the Internet at http://www.bop.gov.

Categories of Individuals Covered by the System:

Current and former inmates, including pre-trial detainees, under the custody of the Attorney General and/or the Director of the Bureau of Prisons.

Categories of Records in the System:

Records in this system include (a) inmate identification data including name, register number, location; (b) information concerning inmate accident/injuries sustained during : (1) Work related accidents; (2) recreation; (3) vehicle accidents; (4) assaults; and (5) other non-work-related accidents; and (c) processing data including dates of receipt of claims and responses.

Authority for Maintenance of the System:

The system is established and maintained under authority of 18 U.S.C. 3621, 4042, 4126, and 5003.

Purpose of the System:

This system of records is maintained to assist in the processing of inmate claims for injuries sustained during (1) work related accidents; (2) recreation; (3) vehicle accidents; (4) assaults; and (5) other non-work-related accidents. In addition, this system provides: (a) documented records of inmate accidents and injuries for the purpose of measuring safety programs' effectiveness; (b) an information source of compliance with the Occupational Safety and Health Act; (c) documented records of inmate accidents, injuries, and disabilities for adjudication of claims by inmates filed under the Inmate Accident Compensation System established pursuant to 18 U.S.C. 4126 and regulations contained in 28 C.F.R. Part 301; and (d) background information and litigation reports to United States Attorneys for purpose of defending civil actions filed against the Bureau.

Routine Uses of Records Maintained in the System, Including Categories of Users and the Purposes of Such Uses:

Relevant data from this system may be disclosed as follows:

(a) To federal, state, local, foreign and international law enforcement agencies and officials for law enforcement purposes such as civil court actions, regulatory proceedings, responding to an emergency, inmate disciplinary proceedings; or for such law enforcement needs as prison administration, investigations, and possible criminal prosecutions;

(b) To contractors, grantees, experts, consultants, students, and others performing or working on a contract, service, grant, cooperative agreement, or other assignment for the Federal Government, when necessary to accomplish an agency function related to this system of records;

(c) To Members of Congress or staff acting upon the Member's behalf when the Member or staff requests the information on behalf of and at the request of the record subject;

(d) To the news media and the public pursuant to 28 CFR 50.2 unless it is determined that release of the specific information in the context of a particular case would constitute an unwarranted invasion of personal privacy;

(e) To consultant physicians treating inmates following release from custody for the purpose of providing medical history in conjunction with further treatment of the individual inmate;

(f) To the National Archives and Records Administration and General Services Administration in records management inspections conducted under the authority of 44 U.S.C. 2904 and 2906;

(g) In a proceeding before a court, grand jury, or administrative or regulatory body when the records are determined by the Department of Justice to be arguably relevant to the proceeding;

(h) To a federal, state or local licensing agency or association which requires information concerning the suitability or eligibility of an individual for a license or permit;

(i) Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Information maintained in the system is stored in electronic media via a configuration of personal computer, client/server, and mainframe systems architecture and may be accessed by those with a need-to-know at all Bureau and contractor facilities. Some information may be stored in other computerized media, e.g., hard disk, floppy diskettes, magnetic tape, digital recordings, Compact Discs (CDs), and/or optical disks. Documentary records are maintained in manual file folders and/or on index card files.

RETRIEVABILITY:

Records may be retrieved by identifying data including name and/or register number of inmate and/or claim number generated by the system.

SAFEGUARDS:

Manual records are stored in locked filing cabinets or in safes and can be accessed only by authorized personnel by key or combination formula. Automated equipment is kept in secured rooms and can be accessed only by authorized personnel through passwords and identification codes. All records in Bureau facilities are maintained in guarded buildings.

RETENTION AND DISPOSAL:

Records in this system are retained for a period of two (2) years after expiration of sentence. Some records may be transferred into another record system: the Inmate Central Records System, JUSTICE/BOP-005, or the Inmate Physical and Mental Health Record System, JUSTICE/BOP-007, and some records may be destroyed by shredding and/or electronic means.

SYSTEM MANAGER(S) AND ADDRESS:

Assistant Director, Health Services Division, Federal Bureau of Prisons; 320 First Street NW., Washington, DC 20534.

Notification Procedure:

Inquiries should be directed to the System Manager listed above.

Record Access Procedures:

All requests for records may be made by writing to the System Manager identified above, Federal Bureau of Prisons, 320 First Street NW., Washington, DC 20534. The envelope should be clearly marked “Privacy Act Request.” This system of records is exempted from access pursuant to 5 U.S.C. 552a(j). A determination as to the applicability of the exemption to a particular record(s) shall be made at the time a request for access is received.

Contesting Record Procedures:

Same as above.

Record Source Categories:

Records are generated by: Individuals covered by the system (inmates and former inmates); Bureau staff; hospital and/or medical sources; pre-sentence reports; other mental health care agencies' observation reports; Federal, State, local, tribal, and foreign law enforcement agencies; and Federal/State probation and judicial offices.

SYSTEMS EXEMPTED FROM CERTAIN PROVISIONS OF THE ACT:

The Attorney General has exempted this system from subsections (c)(3) and (4), (d), (e)(2), (e)(3), (e)(4)(H), (e)(8), (f) and (g) of the Privacy Act pursuant to 5 U.S.C. 552a(j). Rules have been promulgated in accordance with the requirements of 5 U.S.C. 553(b), (c) and (e) and have been published in the Federal Register and codified at 28 CFR 16.97(a) and (b).

[FR Doc. 02-15298 Filed 6-17-02; 8:45 am]

BILLING CODE 4410-05-P